DEPARTMENT OF ENERGY

Federal Energy Regulatory Commission

Combined Notice of Filings

Take notice that the Commission has received the following Natural Gas Pipeline Rate and Refund Report filings:

Filings Instituting Proceedings

Docket Numbers: RP15-376-000.

Applicants: Algonquin Gas Transmission, LLC.

Description: Section 4(d) rate filing per 154.204: NegRate—Dominion Energy Manchester Street Inc. contract 789456 to be effective 2/1/2015.

Filed Date: 1/28/15.

Accession Number: 20150128-5181.

Comments Due: 5 p.m. ET 2/9/15.

Docket Numbers: RP15-377-000.

Applicants: Iroquois Gas Transmission System, L.P.

Description: Section 4(d) rate filing per 154.204: 01/28/15 Negotiated Rates—Mercuria Energy Gas Trading LLC (HUB)—7540-89 to be effective 1/27/2015.

Filed Date: 1/28/15.

Accession Number: 20150128-5208.

Comments Due: 5 p.m. ET 2/9/15.

Docket Numbers: RP15-378-000.

Applicants: Iroquois Gas Transmission System, L.P.

Description: Section 4(d) rate filing per 154.204: 01/28/15 Negotiated Rates—United Energy Trading, LLC (HUB) to be effective 1/27/2015.

Filed Date: 1/28/15.

Accession Number: 20150128-5210.

Comments Due: 5 p.m. ET 2/9/15.

Docket Numbers: RP15-379-000.

Applicants: Iroquois Gas Transmission System, L.P.

Description: Section 4(d) rate filing per 154.204: 01/28/15 Negotiated Rates—ConEdison Energy Inc. (HUB) 2275-89 to be effective 1/27/2015.

Filed Date: 1/28/15.

Accession Number: 20150128-5212.

Comments Due: 5 p.m. ET 2/9/15.

Docket Numbers: RP15-380-000.

Applicants: Cheyenne Plains Gas Pipeline Company, L.

Description: Section 4(d) rate filing per 154.204: Xpress to DART Implementation Filing to be effective 3/1/2015.

Filed Date: 1/28/15.

Accession Number: 20150128-5220.

Comments Due: 5 p.m. ET 2/9/15.

Docket Numbers: RP15-381-000.

Applicants: WBI Energy Transmission, Inc.

Description: Section 4(d) rate filing per 154.204: Non-conforming Service Agreement—Red Trail to be effective 2/1/2015.

Filed Date: 1/28/15.

Accession Number: 20150128-5230.

Comments Due: 5 p.m. ET 2/9/15.

Docket Numbers: RP15-383-000.

Applicants: Kinder Morgan Louisiana Pipeline LLC.

Description: Penalty Revenue Crediting Report of Kinder Morgan Louisiana Pipeline LLC.

Filed Date: 1/28/15.

Accession Number: 20150128-5254.

Comments Due: 5 p.m. ET 2/9/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-366-001.

Applicants: Iroquois Gas Transmission System, L.P.

Description: Tariff Amendment per 154.205(b): 01/28/15 Negotiated Rates—United Energy Trading (HUB) Amnd 01/27/15 5095-89 to be effective 1/26/2015.

Filed Date: 1/28/15.

Accession Number: 20150128-5209.

Comments Due: 5 p.m. ET 2/9/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 29, 2015.
Nathaniel J. Davis, Sr.,
Deputy Secretary.

[FR Doc. 2015-02635 Filed 2-9-15; 8:45 am]

BILLING CODE 6717-01-P